FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201334.

Agreement Name: COSCO/ONE/OOCL/YM EMED-USEC Vessel Sharing Agreement.

Parties: COSCO SHIPPING Lines Co., Ltd.; Ocean Network Express Pte. Ltd.; Orient Overseas Container Line Limited; and Yang Ming Marine Transport Corp., Yang Ming (UK) Ltd., and Yang Ming (Singapore) Pte. Ltd. (acting as a single party).

Filing Party: Joshua Stein; Cozen O'Connor.

Synopsis: The Agreement authorizes the parties to cooperate on the provision of a service operating between the U.S. East Coast and ports in the Mediterranean.

Proposed Effective Date: 3/4/2020.

Location: https://www2.fmc.gov/FMC.Agreements.Web/Public/AgreementHistory/27479.

Agreement No.: 012056-002.

Agreement Name: WWOcean/EUKOR Joint Operating Agreement.

Parties: Wallenius Wilhelmsen Ocean AS and EUKOR Car Carriers, Inc.

Filing Party: Wayne Rohde; Cozen O'Connor.

Synopsis: This amendment revises Article 5.6(c) of the Agreement to exclude tug services from the services for which the parties are authorized to negotiate jointly.

Proposed Effective Date: 3/5/2020.

Location: https://www2.fmc.gov/FMC.Agreements.Web/Public/AgreementHistory/2021.

Dated: March 6, 2020.
Rachel Dickon,
Secretary.

[FR Doc. 2020-05002 Filed 3-10-20; 8:45 am]

BILLING CODE 6731-AA-P